DEPARTMENT OF ENERGY

Federal Energy Regulatory Commission

Combined Notice of Filings #1

December 19, 2005.

Take notice that the Commission received the following electric rate filings:

Docket Numbers: ER00-826-004; ER00-828-004; ER98-421-015; ER98-4055-012; ER01-1337-007; ER04-288-001; ER02-177-008; ER03-1212-006; ER01-1820-006; ER96-2506-008.

Applicants: Brownsville Power I, L.L.C.; Caledonia Power I, L.L.C., CinCap IV, LLC; CinCap V, LLC; Cinergy Capital & Trading, Inc.; Cincinnati Gas & Electric Co.; Cinergy Power Investments, Inc.; St Paul Cogeneration, LLC; Cinergy Operating Companies; PSI Energy, Inc.

Description: Cinergy submits revised sheets for the joint PSI/Cincinnati Gas & Electric market-based rate tariff.

Filed Date: 11/16/2005.

Accession Number: 20051121-0144.

Comment Date: 5 p.m. eastern time on Tuesday, December 27, 2005.

Docket Number: ER00-1928-002.

Applicant: Western New York Wind Corp.

Description: Western New York Wind Corp submits Substitute First Revised Sheets No. 2 and 3 of FERC Electric Rate No. 1 pursuant to Ordering Paragraph (B) of FERC's 11/3/05 order.

Filed Date: 12/05/2005.

Accession Number: 20051213-0343.

Comment Date: 5 p.m. eastern time on Tuesday, December 27, 2005.

Docket Number: ER01-2692-004.

Applicant: Canastota Windpower, LLC.

Description: Canastota Windpower LLC submits substitute First Revised Sheets No. 2 and 3 of FERC Electric Rate Schedule No. 1 pursuant to Ordering Paragraph (B) of FERC's 11/3/05 order.

Filed Date: 12/05/2005.

Accession Number: 20051213-0344.

Comment Date: 5 p.m. eastern time on Tuesday, December 27, 2005.

Docket Number: ER02-2458-006.

Applicant: Midwest Independent Transmission System Operator, Inc.

Description: Midwest ISO submits Settlement Parties compliance filing of Amended and Restated Settlement Agreement.

Filed Date: 12/01/2005.

Accession Number: 20051201-5076.

Comment Date: 5 p.m. eastern time on Thursday, December 22, 2005.

Docket Number: ER05-795-003.

Applicant: New England Power Pool.

Description: ISO New England, Inc. and New England Power Pool submit a compliance report on Ancillary Services Market.

Filed Date: 12/05/2005.

Accession Number: 20051205-5097.

Comment Date: 5 p.m. eastern time on Tuesday, December 27, 2005.

Docket Number: ER05-1076-002; ER99-2311-006.

Applicant: Carolina Power & Light Company.

Description: Carolina Power & Light Co dba Progress Energy Carolinas, Inc submits a mitigation proposal tailored to its particular circumstances regarding wholesale sales made by CP&L for the period 7/19/05 & 8/6/05.

Filed Date: 12/05/2005.

Accession Number: 20051213-0339.

Comment Date: 5 p.m. eastern time on Tuesday, December 27, 2005.

Docket Number: ER05-1082-002.

Applicant: Carolina Power & Light Company.

Description: Carolina Power & Light Co dba Progress Energy Carolinas, Inc submits a revision to its Cost-Based Wholesale Power Sales Tariff.

Filed Date: 12/05/2005.

Accession Number: 20051213-0337.

Comment Date: 5 p.m. eastern time on Tuesday, December 27, 2005.

Docket Number: ER05-1422-003.

Applicant: Calpine Merchant Services Company, Inc.

Description: Notice of Change in Status of Calpine Merchant Services Company, Inc.

Filed Date: 12/05/2005.

Accession Number: 20051205-5042.

Comment Date: 5 p.m. eastern time on Tuesday, December 27, 2005.

Docket Number: ER06-146-001.

Applicant: Alliance Energy Marketing, LLC.

Description: Alliance Energy Marketing, LLC's errata to the revised tariff sheets submitted on 11/2/05.

Filed Date: 12/07/2005.

Accession Number: 20051212-0068.

Comment Date: 5 p.m. eastern time on Wednesday, December 28, 2005.

Docket Number: ER06-292-000.

Applicant: Public Service Company of New Mexico.

Description: Public Service Co of New Mexico submits the revised Network Integration Transmission Service Agreement (First Revised Service Agreement 134-PNM) and the revised Network Operating Agreement etc.

Filed Date: 12/06/2005.

Accession Number: 20051207-0075.

Comment Date: 5 p.m. eastern time on Tuesday, December 27, 2005.

Docket Number: ER06-293-000.

Applicant: Idaho Power Company.

Description: Idaho Power Co submits a Capacitor Joint Ownership Agreement with NorthWestern Corp & PacifiCorp designated as Rate Schedule 148 etc.

Filed Date: 12/06/2005.

Accession Number: 20051208-0058.

Comment Date: 5 p.m. eastern time on Tuesday, December 27, 2005.

Docket Number: ER06-294-000.

Applicant: NRG Ilion LP.

Description: NRG Ilion Limited Partnership submits a notice of cancellation for FERC Rate Schedule 1.

Filed Date: 12/06/2005.

Accession Number: 20051208-0070.

Comment Date: 5 p.m. eastern time on Tuesday, December 27, 2005.

Docket Number: ER06-295-000.

Applicant: ISO New England Inc.

Description: ISO New England Inc submits the revised pricing formula for its sales of Emergency Energy to Hydro-Quebec TransEnergie (HQTE) under the Interconnection Operators Agreement.

Filed Date: 12/07/2005.

Accession Number: 20051208-0069.

Comment Date: 5 p.m. eastern time on Wednesday, December 28, 2005.

Docket Number: ER06-298-000.

Applicant: Energy Group of America, Inc.

Description: Petition of the Energy Group of America, Inc for order accepting market-based rate schedule for filing and granting waivers and blanket approval.

Filed Date: 12/07/2005.

Accession Number: 20051212-0069.

Comment Date: 5 p.m. eastern time on Wednesday, December 28, 2005.

Docket Number: ER95-1278-016; ER05-698-004.

Applicant: NAP Trading and Marketing, Inc.

Description: NAP Trading and Marketing, Inc and San Joaquin Cogen, L.L.C., submit amendments to the market-based rate tariffs and notification of a non-material change in status.

Filed Date: 12/05/2005.

Accession Number: 20051212-0009.

Comment Date: 5 p.m. eastern time on Tuesday, December 27, 2005.

Docket Number: ER96-2640-016.

Applicant: CHI Power Marketing, Inc.

Description: CHI Power Marketing Inc., submits Second Revised Sheets No. 2 and 3 of FERC Electric Rate Schedule No.1 pursuant to ordering Paragraph (B) of FERC's 11/3/05 order.

Filed Date: 12/05/2005.

Accession Number: 20051213-0341.

Comment Date: 5 p.m. eastern time on Tuesday, December 27, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E5-7916 Filed 12-27-05; 8:45 am]

BILLING CODE 6717-01-P